DEPARTMENT OF TRANSPORTATION

Federal Aviation Administration

14 CFR Part 39

[Docket No. FAA-2008-0520; Directorate Identifier 2008-NM-018-AD; Amendment 39-15630; AD 2008-16-12]

RIN 2120-AA64

Airworthiness Directives; Boeing Model 777-200 Series Airplanes

AGENCY: Federal Aviation Administration (FAA), DOT.

ACTION: Final rule.

SUMMARY: We are adopting a new airworthiness directive (AD) for certain Boeing Model 777-200 series airplanes. This AD requires repetitive inspections for any wrinkle in certain external skin panels, and for cracking at the fuselage bulkhead shear tie end fastener locations at certain stations of Section 48 of the fuselage; and doing related investigative and corrective actions if necessary. This AD results from a report of cracks found in the external skin on the left and right sides of the Section 48 panel of the fuselage on two airplanes with skin wrinkles found at two of the external crack locations. We are issuing this AD to detect and correct wrinkles and cracks in certain external skin panels of Section 48, which could join together and result in reduced structural integrity of support structure for the vertical and horizontal stabilizers and inability of the airplane to sustain limit loads.

DATES: This AD is effective September 9, 2008.

The Director of the Federal Register approved the incorporation by reference of a certain publication listed in this AD as of September 9, 2008.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Duong Tran, Aerospace Engineer, Airframe Branch, ANM-120S, FAA, Seattle Aircraft Certification Office, 1601 Lind Avenue, SW., Renton, Washington 98057-3356; telephone (425) 917-6452; fax (425) 917-6590.

SUPPLEMENTARY INFORMATION:

Discussion

We issued a notice of proposed rulemaking (NPRM) to amend 14 CFR part 39 to include an airworthiness directive (AD) that would apply to certain Boeing Model 777-200 series airplanes. That NPRM was published in the Federal Register on May 7, 2008 (73 FR 25599). That NPRM proposed to require repetitive inspections for any wrinkle in certain external skin panels, and for cracking at the fuselage bulkhead shear tie end fastener locations at certain stations of Section 48 of the fuselage; and doing related investigative and corrective actions if necessary.

Comments

We gave the public the opportunity to participate in developing this AD. We considered the comment received. Boeing concurs with the NPRM.

Conclusion

We reviewed the relevant data, considered the comments received, and determined that air safety and the public interest require adopting the AD as proposed.

Costs of Compliance

We estimate that the inspections in this AD affect 13 airplanes of U.S. registry. We also estimate that it takes about 15 work-hours per product to comply with this AD. The average labor rate is $80 per work-hour. Based on these figures, we estimate the cost of this AD to the U.S. operators to be $15,600, or $1,200 per product, per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-16-12 Boeing: Amendment 39-15630. Docket No. FAA-2008-0520; Directorate Identifier 2008-NM-018-AD.

Effective Date

(a) This airworthiness directive (AD) is effective September 9, 2008.

Affected ADs

(b) None.

Applicability

(c) This AD applies to Boeing Model 777-200 series airplanes, certificated in any category; as identified in Boeing Alert Service Bulletin 777-53A0051, dated November 8, 2007.

Unsafe Condition

(d) This AD results from a report of cracks found in the external skin on the left and right sides of the Section 48 fuselage panel on two airplanes with skin wrinkles found at two of the external crack locations. We are issuing this AD to detect and correct wrinkles and cracks in certain external skin panels of Section 48, which could join together and result in reduced structural integrity of support structure for the vertical and horizontal stabilizers and inability of the airplane to sustain limit loads.

Compliance

(e) Comply with this AD within the compliance times specified, unless already done.

Repetitive Inspections/Investigative and Corrective Actions

(f) At the applicable compliance times specified in paragraph 1.E., “Compliance” of Boeing Alert Service Bulletin 777-53A0051, dated November 8, 2007; except as provided by paragraph (g) of this AD: Do the applicable inspections for any wrinkle of the external skin and for cracking at the fuselage bulkhead shear tie end fastener locations at Stations 2195.75, 2221.65, and 2245.70 of the Section 48 panel of the fuselage, between stringers 5 and 10 on the left and right sides; and do all the applicable investigative and corrective actions; by doing all of the applicable actions in accordance with the Accomplishment Instructions of the service bulletin, except as provided by paragraph (h) of this AD. Do all applicable investigative and corrective actions before further flight. Repeat the applicable inspections thereafter at the applicable intervals specified in paragraph 1.E. of the service bulletin.

Exception to Compliance Times

(g) Where Boeing Alert Service Bulletin 777-53A0051, dated November 8, 2007, specifies counting the compliance time from “* * * the date on this service bulletin,” this AD requires counting the compliance time from the effective date of this AD.

Exception to Corrective Actions

(h) If any damage beyond the repair limits specified in Boeing Alert Service Bulletin 777-53A0051, dated November 8, 2007, is found during any inspection required by this AD, and the service bulletin specifies to contact Boeing for appropriate action: Before further flight, repair the crack using a method approved in accordance with the procedures specified in paragraph (i) of this AD.

Alternative Methods of Compliance (AMOCs)

(i)(1) The Manager, Seattle Aircraft Certification Office (ACO), FAA, ATTN: Duong Tran, Aerospace Engineer, Airframe Branch, ANM-120S, FAA, 1601 Lind Avenue, SW., Renton, Washington 98057-3356; telephone (425) 917-6452; fax (425) 917-6590 has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane.

Material Incorporated by Reference

(j) You must use Boeing Alert Service Bulletin 777-53A0051, dated November 8, 2007, to do the actions required by this AD, unless the AD specifies otherwise.

(1) The Director of the Federal Register approved the incorporation by reference of this service information under 5 U.S.C. 552(a) and 1 CFR part 51.

(2) For service information identified in this AD, contact Boeing Commercial Airplanes, P.O. Box 3707, Seattle, Washington 98124-2207.

(3) You may review copies of the service information incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on July 23, 2008.
Ali Bahrami,
Manager, Transport Airplane Directorate, Aircraft Certification Service.

[FR Doc. E8-17749 Filed 8-4-08; 8:45 am]

BILLING CODE 4910-13-P